DEPARTMENT OF ENERGY

Federal Energy Regulatory Commission

[Docket No. EL03-30-000]

Tenaska Power Services Co., Complainant, v. Midwest Independent Transmission System Operator, Inc., Respondent; Notice of Complaint

December 16, 2002.

Take notice that on December 10, 2002, Tenaska Power Services Co. (Tenaska Power) tendered for filing with the Federal Energy Regulatory Commission (Commission) a complaint against Midwest Independent Transmission System Operator, Inc. (MISO) alleging MISO has violated its Tariff and Commission precedent and policy by failing to grant Tenaska Power's Long-Term firm transmission service requests, instead affording priority to Short-Term transmission service requests.

Tenaska Power states that it served a copy of the Complaint on MISO on December 9, 2002.

Any person desiring to be heard or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. The answer to the complaint and all comments, interventions or protests must be filed on or before January 6, 2003. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659. The answer to the complaint, comments, protests and interventions may be filed electronically via the Internet in lieu of paper; see 18 CFR 385.2001(a)(1)(iii) and the instructions on the Commission's web site under the “e-Filing” link. The Commission strongly encourages electronic filings.

Magalie R. Salas,
Secretary.

[FR Doc. 02-32200 Filed 12-20-02; 8:45 am]

BILLING CODE 6717-01-P